DEPARTMENT OF AGRICULTURE

Animal and Plant Health Inspection Service

7 CFR Part 330

[Docket No. APHIS-2006-0051]

Aquatic Snails; Permit Requirements for Importation and Interstate Movement

AGENCY: Animal and Plant Health Inspection Service, USDA.

ACTION: Policy statement.

SUMMARY: This document gives notice that we intend to begin consistently and routinely requiring that a permit must accompany all aquatic snails that are imported into the United States or that are moving interstate. We also intend to consistently require that shipments of aquatic snails, as with all other plant pests imported under permit, be subject to inspection and to begin routinely and consistently inspecting shipments of aquatic supplies or plants that may contain aquatic snails. This action is necessary in order to prevent the importation or interstate movement of certain species of aquatic snails which, if released into the environment, can become destructive agricultural pests.

DATES: Effective Date: April 5, 2006.

FOR FURTHER INFORMATION CONTACT: For information regarding import permits, contact Dr. Michael J. Firko, Director of Permits, Registration, and Imports, PPQ, APHIS, 4700 River Road Unit 133, Riverdale, MD 20737-1231; (301) 734-8758. For information concerning inspection of commodities, contact Mr. William Thomas, Director, Quarantine Policy, Analysis and Support, PPQ, APHIS, 4700 River Road Unit 60, Riverdale, MD 20737-1236; (301) 734-5214.

SUPPLEMENTARY INFORMATION:

Background

The regulations in 7 CFR part 330 prohibit or restrict the importation into the United States or the interstate movement of plant pests and the movement of means of conveyance, earth, stone and quarry products, garbage, and certain other articles to prevent the introduction and dissemination of plant pests into and within the United States. The regulations in part 330 identify snails among the organisms considered to be plant pests.

The regulations contained in “Subpart-Movement of Plant Pests,” §§ 330.200 through 330.212 (referred to below as the regulations), restrict or prohibit the importation or interstate movement of plant pests. Section 330.200 specifies that a permit is required for the intentional movement of any plant pest into or through the United States. Section 330.203 provides that permits may include any conditions which, in the opinion of the Deputy Administrator, are necessary to prevent dissemination of plant pests into the United States or interstate. Such conditions may vary, but may include requirements for inspection of the premises where the plant pests are to be handled after their movement under permit to determine whether the facilities are adequate to prevent plant pest dissemination.

While we have considered snails to be plant pests for decades, we have not routinely enforced permit and inspection requirements for aquatic snails, particularly those moving interstate. Most aquatic snails imported into the United States are imported for use in aquariums, often as part of shipments of aquarium supplies such as fish or plants. Other aquatic snails are inadvertently imported as “hitchhikers” in shipments of other aquatic supplies or plants. The majority of aquatic snails moving interstate are moved as pets or for sale as pets.

Before plastic aquarium plants became popular among aquarium owners, plant-feeding snails were undesirable for aquarium use. Importers of aquarium plants did not intentionally import them and were vigilant about inspecting shipments to prevent “hitchhikers.” As a result, imports of plant-feeding snails were insignificant and did not present a risk to U.S. agriculture. However, the widespread use of plastic aquarium plants has led to an increase in the use of such aquatic snails in aquariums as pets. Importers are also less concerned by aquatic snails being imported in shipments of aquarium supplies. In addition, more aquatic snails are now being sold and moved interstate, often from areas where exotic aquatic snails have become established.

Some of the most damaging of these aquatic snails, and most popular among aquarium owners, are the channeled apple snails (Pomacea canaliculata complex), or other species of Pomacea. Channeled apple snails, as well as other species of Pomacea, pose a significant threat to U.S. agriculture, especially rice crops. In southeast Asia, several channeled apple snail species were intentionally introduced as a food item in the early 1980s. Instead of becoming a useful food source, however, many snails either escaped or were released into nearby rice fields. In addition to causing millions of dollars of rice crop damage annually in Taiwan, Japan, the Philippines, China, Korea, and other southeast Asian countries, the snail was found to carry Angiostrongylus cantonensis, a parasite nematode that causes potentially lethal eosinophilic meningitis, a disease of humans and other animals.

During the early 1990s, fish farmers in the Cibao region of the Dominican Republic intentionally introduced channeled apple snails to control algal and macrophytic buildup in their ponds. Within a few months, the snails escaped into the surrounding rice-producing area. By 1997, about 40 percent of the Dominican rice-producing areas were infested, with crop losses in some areas estimated at 75 percent or more.

Channeled apple snails are also now established in regions of the United States. In Hawaii, the channeled apple snail was first reported in 1989. Since then, it has spread to several islands in the Hawaiian archipelago, including Maui, Kaua'i, O'ahu, Hawai'i, and Lana'i, where it has become a serious pest of taro. The snail was first reported in Florida in 1998 and is believed to be established in Collier, Hillsborough, Palm Beach, and Pinellas Counties. In California, the channeled apple snail emerged in 1998 in San Diego County, and isolated populations have subsequently been reported in several other areas of the State. So far, however, California's rice-growing regions are not affected. Additionally, channeled apple snail infestations in Texas, which were previously confined to the American Canal south of Houston, appear to have spread to areas of active rice production as a result of Tropical Storm Alison in 2001. The effects of this introduction are not yet known.

Allowing further imports of the channeled apple snail and other aquatic snails would increase the number of potentially invasive snails in the United States beyond the rate of natural increase and spread and would increase the damage the snails do to the environment, as well as the likelihood that they will spread into areas beyond where they are already found. This would make it more difficult and expensive to control and eradicate them.

Preventing the introduction and dissemination of destructive aquatic snails is difficult for a number of reasons. The distinction between species and species complexes is blurred and the biology of various snail taxa is generally poorly understood. Currently, only one species of apple snail, Pomacea bridgesii, appears to be innocuous. However, even to a well-trained eye, these snails appear remarkably similar to the extremely destructive channeled apple snails. In addition, immature snails imported in shipments of aquarium plants can be difficult to find during routine inspections.

Routinely and consistently enforcing the regulations with respect to aquatic snails will help prevent the introduction and spread of apple snails and many other Pomacea species not established in the United States, as well as prevent the introduction and spread of the snails from one region of the country to other, uninfested regions. Further, it is unlikely that we would issue permits for the importation or interstate movement of species of Pomacea, except specimens of P. bridgesii. As stated above, even to a well-trained eye, P. bridgesii can appear very similar to the destructive channeled apple snail, particularly when the snail is immature. Therefore, we would require, as a permit condition, that the P. bridgesii be a minimum of 1.4 inches (3.5 cm) long. Establishing a minimum length for import and interstate movement of P. bridgesii will allow inspectors to more easily confirm the species of the snail in question.

We further intend to begin consistently and routinely enforcing the regulations to require that a permit accompany all aquatic snails moving into or through the country and will increase the level of inspection of shipments of aquarium supplies and plants offered for entry into the United States to look for evidence of aquatic snails. We are issuing this policy statement to ensure that affected importers, shippers, and members of the public are made aware of these requirements. Any shipment found to contain aquatic snails for which a permit has not been issued will be subject to administratively approved procedures to prevent the dissemination of the snails. These procedures can vary, but may involve seizure, quarantine, exportation, return to shipping point of origin, destruction, or other disposal. These actions are necessary to prevent new introductions of exotic snails and increases in the existing populations of destructive aquatic snails. This notice is intended to alert affected importers and other shippers as well as members of the public that we intend to enforce these regulations on a consistent, uniform basis.

Economic Considerations and Analysis

Most aquatic snails imported into the United States are destined for aquarium use and often consist of part of a larger shipment of aquarium supplies. Aquatic snails are also imported unintentionally (i.e., as hitchhikers) in shipments of aquatic plants. Aquatic snails could pose both animal and human health risks, because they may be infested with parasites, such as liver flukes. Unfortunately, some aquarium owners dispose of unwanted snails by dumping them in local waterways or sewage systems, where the snails can survive. Destructive aquatic snails, if released into the environment, could become established as major pests of agricultural crops such as rice. In addition, as apple snails have both lungs and gills and can therefore survive out of water for months at a time, any endangered or threatened plant species living in or near infested waters could be directly affected.

To prevent destructive aquatic snails from being imported into the United States and from being moved interstate, APHIS needs to enforce permit and inspection requirements for aquatic snails. This policy statement does not entail new regulatory requirements; rather, it is intended to communicate the Agency's intent to consistently and routinely enforce the provisions of the existing regulations.

Between 2002 and 2004, the value of U.S. imports of live aquatic supplies including snails increased by about 9 percent, whereas U.S. imports of mollusks (including freshwater snails) and nondestructive snails increased in value by 11 and 28 percent, respectively (table 1). Thus, snail imports are growing at a more rapid rate than are imports of live aquatic supplies generally.

Table 1.—Value of U.S. Imports of Selected Live Aquatic Supplies
[In U.S. dollars]
Live aquatic supplies | HS 6-digit code | 2002 | 2003 | 2004 | % change 2001-2004
Aquatic invertebrates:
Crustaceans | 030600 | $4,136,004,000 | $4,623,263,000 | $4,490,191,000 | +8.56
Mollusks (fresh water snails, clams, etc.) | 030700 | 427,218,000 | 482,416,000 | 474,551,000 | +11.08
Snails, non-destructive (Gastropoda) | 030760 | 806,000 | 909,000 | 1,032,000 | +28.04
Other aquatic supplies:
Ornamental fish | 030110 | 39,658,000 | 41,324,000 | 43,762,000 | +10.35
Corals and seashells | 050800 | 10,437,000 | 11,099,000 | 11,529,000 | +10.46
Source: U.S. Department of Commerce, U.S. Census Bureau, Foreign Trade Statistics, Harmonized Standard codes 4-digit and 6-digit.

Destructive aquatic snails can feed on young rice seedlings and spread through the extensive irrigation networks of U.S. rice-growing regions. Rice production in the United States is concentrated in six regions: The Arkansas Grand Prairie, northeastern Arkansas and the bootheel of Missouri, the Mississippi River Delta (in Arkansas, Mississippi, and northeast Louisiana), southwest Louisiana, the coastal prairie of Texas, and the Sacramento Valley of California. These six States account for 99.5 percent of U.S. rice production (table 2).¹ Arkansas, with more than 48 percent of U.S. rice acreage, produces more rice than any other State (i.e., 50 percent). California has the second largest production, more than 16 percent of the U.S. rice crop, and the highest yields in the United States. Louisiana has the third largest production, accounting for about 14 percent of the U.S. rice crop. Mississippi and Texas rank fourth and fifth in both area and production, accounting for 7 percent to 8 percent of U.S. rice production. Missouri accounts for about 5 percent of U.S. production.

¹ Source: National Agricultural Statistics Service, USDA.

Florida is a minor rice producer, with less than 1 percent of U.S. production. In Florida, rice is grown as a rotation crop with sugarcane and vegetables around the southern and eastern shores of Lake Okeechobee. Although Florida's rice production is not large, the Everglades and other natural areas are susceptible to the introduction of destructive snails.

In the major U.S. rice producing States plus Florida, over 3 million acres are planted with rice (table 2). These same States account for approximately 32 percent of aquatic/pet supply stores and sales in the country. In 2002, the annual sale revenue of aquatic/pet supply stores in these rice-producing States was over $1.7 billion.

Table 2.—U.S. Rice Planted Area and Aquatic Supply Stores, 2003
State | Rice: Acres planted | Rice: Production (in cwt) | Aquarium/pet and pet supplies stores: Number of stores | Aquarium/pet and pet supplies stores: Value of sales
Arkansas | 1,455,000 | 95,860,000 | 48 | $18,228,000
California | 507,000 | 38,624,000 | 1,093 | 880,936,000
Louisiana | 450,000 | 26,397,000 | 81 | 22,756,000
Mississippi | 234,000 | 15,912,000 | 33 | 15,289,000
Missouri | 171,000 | 10,484,000 | 153 | 101,257,000
Texas | 180,000 | 11,880,000 | 431 | 354,954,000
Sum of 6 States | 2,997,000 | 187,387,000 | 1,839 | 1,393,420,000
Florida | 17,864 | 958,000 | 584 | 340,730,000
Sum of 7 States | 3,014,864 | 188,345,000 | ¹ 2,423 | ¹ 1,734,150,000
United States | 3,014,864 | 188,345,000 | 7,629 | 5,492,749,000
Sources: USDA/Economic Research Service/ Rice Outlook 2005 and U.S. Economic Census 2002, NAICS 453910; University of Florida, IFAS Extension, “An Overview of the Florida Rice Industry,” Schueneman, T.J., and C.W. Deren.
¹ 32% of U.S. total.

U.S. rice producers would bear direct costs of controlling destructive aquatic snails introduced into rice-growing regions, as well as costs of replanting after initial destruction of seedlings by the snails and rice yield losses. By acting to prevent the importation and interstate movement of destructive aquatic snails, U.S. rice-growing regions and susceptible natural areas such as the Everglades will be better protected from possible infestations. For the U.S. rice industry, potential rice yield losses and costs of eliminating infestations will be avoided.

Retail aquarium/pet stores are classified under North American Industry Classification System (NAICS) code number 453910. According to the 2002 Economic Census, there were 7,629 such stores in the United States, with $5.5 billion in annual sales. Of these pet/aquarium supply stores, 2,423 with $1.73 billion in annual sales were in rice-producing States.

It can be assumed that nearly all aquariums and aquatic supplies are sold in pet/aquarium stores. We do not have information on how many of these stores are small entities, but clearly most have annual sales revenue well below the SBA small entity threshold for pet stores of $5 million (NAICS 453910); the average pet/aquarium store had annual sales revenue of about $720,000 in 2002. Even though most pet/aquarium stores may be classified as small entities, we anticipate a minimal economic impact on the domestic pet industry. Fulfilling the permit and other requirements of the regulations with regard to aquatic snails will not noticeably increase costs to potential importers. In fact, importers will be assured that their shipments do not contain snails they did not intend to import. Further, consumers who purchase aquatic supplies will not receive destructive aquatic snails that might damage their home aquarium environments. Subsequently, there is less of a risk of consumers releasing destructive aquatic snails into waterways where they may spread to damage rice crops or delicate ecosystems. There are multiple important benefits of this action that outweigh any potential economic consequences.

Therefore, we intend to begin consistently enforcing the regulations in §§ 330.200 through 330.212 with regard to aquatic snails in order to prevent the introduction and dissemination of destructive aquatic snails.

Authority: 7 U.S.C. 450, 7701-7772, 7781-7786, and 8301-8317; 21 U.S.C. 136 and 136a; 31 U.S.C. 9701; 7 CFR 2.22, 2.80, and 371.3.

Done in Washington, DC, this 30th day of March 2006.
Elizabeth E. Gaston,
Acting Administrator, Animal and Plant Health Inspection Service.

[FR Doc. 06-3297 Filed 4-4-06; 8:45 am]

BILLING CODE 3410-34-P